DEPARTMENT OF THE INTERIOR

Bureau of Land Management

[AK-932-1430-ET; A-062024]

Public Land Order No. 7471; Extension of Public Land Order No. 6127; Alaska

AGENCY: Bureau of Land Management, Interior.

ACTION: Public Land Order.

SUMMARY: This order extends Public Land Order No. 6127 for an additional 20-year period. This extension is necessary to continue the protection of the Bureau of Land Management's Campbell Tract Administrative Site.

EFFECTIVE DATE: February 11, 2002.

FOR FURTHER INFORMATION CONTACT: Robbie J. Havens, Bureau of Land Management, Alaska State Office, 222 W. 7th Avenue, No. 13, Anchorage, Alaska 99513-7599, (907) 271-5049.

By virtue of the authority vested in the Secretary of the Interior by Section 204 of the Federal Land Policy and Management Act of 1976, 43 U.S.C. 1714 (1994), it is ordered as follows:

1. Public Land Order No. 6127, which withdrew public land from settlement, sale, location, or entry under the general land laws, including the United States mining laws (30 U.S.C. Ch.2 (1994)), for the protection of the Campbell Tract Administrative Site, is hereby extended for an additional 20 years as it affects the following described land:

Seward Meridian

T. 12 N., R. 3 W.,

Sec. 2, W½W½E½NW¼, W½NW¼, W½E½W½SW¼, and W½W½SW¼;

Sec. 3, lots 1 to 4, inclusive, S½N½NE¼NE¼, S½NE¼NE¼, S½SE¼NW¼NE¼, S½NE¼, SE¼SE¼NW¼, S½NE¼SE¼NW¼, S½SW¼SE¼NW¼, S½SE¼SW¼NW¼, SW¼, and E½SE¼;

Sec. 10, NE¼NE¼, E½NW¼NE¼, NW¼NW¼NE¼, N½SW¼NW¼NE¼, and N½N½N½NW¼;

Sec. 11, NW¼NW¼NW¼ and W½SW¼NW¼NW¼.

The area described contains 730.13 acres.

2. This withdrawal will expire 20 years from the effective date of this order unless, as a result of a review conducted before the expiration date pursuant to Section 204(f) of the Federal Land Policy and Management Act of 1976, 43 U.S.C. 1714(f) (1994), the Secretary determines that the withdrawal shall be extended.

Dated: November 15, 2000.
Sylvia V. Baca,
Assistant Secretary of the Interior.

[FR Doc. 00-30509 Filed 11-29-00; 8:45 am]

BILLING CODE 4310-JA-P